DEPARTMENT OF HOMELAND SECURITY

Coast Guard

33 CFR Part 117

[Docket No. USCG-2009-0494]

Drawbridge Operation Regulations; Norwalk River, Norwalk, CT, Maintenance

AGENCY: Coast Guard, DHS.

ACTION: Notice of temporary deviation from regulations.

SUMMARY: The Commander, First Coast Guard District, has issued a temporary deviation from the regulation governing the operation of the Washington Street S136 Bridge across the Norwalk River, mile 0.0, at Norwalk, Connecticut. This deviation allows the bridge to remain in the closed position for five weekends in July and August to facilitate scheduled bridge maintenance.

DATES: This deviation is effective from 2 a.m. on July 11, 2009 through 6 a.m. on August 24, 2009.

ADDRESSES: Documents mentioned in this preamble as being available in the docket are part of docket USCG-2009-0494 and are available online at www.regulations.gov, selecting the Advanced Docket Search option on the right side of the screen, inserting USCG-2009-0494 in the docket ID box, pressing enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, telephone (212) 668-7165, judy.k.leung-yee@uscg.mil. If you have questions on viewing the docket, call Renee V. Wright, Program Manager, Docket Operations, telephone 202-366-9826.

SUPPLEMENTARY INFORMATION: The owner of the bridge, Connecticut Department of Transportation, requested this temporary deviation. The Washington Street S136 Bridge, across the Norwalk River, mile 0.0, at Norwalk, Connecticut, has a vertical clearance in the closed position of 9 feet at mean high water and 16 feet at mean low water. The Drawbridge Operation Regulations are listed at 33 CFR 117.217(a).

The Norwalk River supports commercial and recreational vessel traffic. The commercial operators were contacted and no objections were raised.

This deviation allows the bridge to remain in the closed position from 2 a.m. on Saturday through 6 a.m. on Monday, for five weekends: July 11 through July 13; July 25 through July 27; August 8 through August 10; August 15 through August 17, and August 22 through August 24, 2009.

Vessels able to pass under the closed draw may do so at any time.

In accordance with 33 CFR 117.35(e), the bridge must return to its regular operating schedule immediately at the end of the designated time period. This deviation from the operating regulations is authorized under 33 CFR 117.35.

Dated: June 23, 2009.
Gary Kassof,
Bridge Program Manager, First Coast Guard District.

[FR Doc. E9-16306 Filed 7-8-09; 8:45 am]

BILLING CODE 4910-15-P